DEPARTMENT OF ENERGY

Federal Energy Regulatory Commission

[Project No. 2955-011]

City of Watervliet; Notice of Application Tendered for Filing With the Commission and Soliciting Additional Study Requests and Establishing Procedural Schedule for Relicensing and a Deadline for Submission of Final Amendments

Take notice that the following hydroelectric application has been filed with the Commission and is available for public inspection.

a. Type of Application: Subsequent Minor License.

b. Project No.: 2955-011.

c. Date Filed: February 28, 2020.

d. Applicant: City of Watervliet, New York.

e. Name of Project: Normanskill Hydroelectric Project.

f. Location: The project is located on the Normans Kill in Guilderland, Albany County, New York. The project does not occupy any federal land.

g. Filed Pursuant to: Federal Power Act 16 U.S.C. 791 (a)-825(r).

h. Applicant Contact: Michele E. Stottler, Gomez and Sullivan Engineers, DPC, 399 Albany Shaker Road, Suite 203, Loudonville, NY 12211; (518) 407-0050; email—mstottler@gomezandsullivan.com or Joseph LaCivita, General Manager, The City of Watervliet, 2 Fifteenth Street, Watervliet, NY 12189; (518) 270-3800; email—jlacivita@watervliet.com.

i. FERC Contact: Woohee Choi at (202) 502-6336; or email at woohee.choi@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: April 28, 2020.

The Commission strongly encourages electronic filing. Please file additional study requests and requests for cooperating agency status using the Commission's eFiling system at http://www.ferc.gov/docs-filing/efiling.asp. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-2955-011.

m. This application is not ready for environmental analysis at this time.

n. The Normanskill Project consists of the following existing facilities: (1) A 380-foot-long reinforced concrete Ambursen-type dam with a 306-foot-long overflow section having a crest elevation of 259 feet National Geodetic Vertical Datum of 1929 (NGVD29) surmounted by 3-foot flashboards; (2) a 380-acre reservoir with a gross volume of 3,600 acre-feet at the normal maximum pool elevation of 262 feet NGVD29; (3) an intake structure and sluiceway; (4) a 700-foot-long, 6-foot-diameter, concrete-encased steel, buried penstock; (5) a reinforced concrete underground powerhouse containing a single 1,250-kilowatt tube-type generating unit; (6) a 600-foot-long, 2.4-kilovolt (kV) transmission line; (7) a 2.4/13.2-kV transformer bank; and (8) appurtenant facilities.

The Normanskill Project is operated in a run-of-river mode with an average annual generation of 2,863 megawatt-hours between 2010 and 2019.

o. A copy of the application is available for review at the Commission in the Public Reference Room or may be viewed on the Commission's website at http://www.ferc.gov using the eLibrary link. Enter the docket number excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

p. Procedural schedule and final amendments: The application will be processed according to the following preliminary schedule. Revisions to the schedule will be made as appropriate.

Issue Deficiency Letter (if necessary) | April 2020.
Request Additional Information | April 2020.
Issue Acceptance Letter | July 2020.
Issue Scoping Document 1 for comments | August 2020.
Request Additional Information (if necessary) | October 2020.
Issue Scoping Document 2 | November 2020.
Issue notice of ready for environmental analysis | November 2020.
Commission issues EA | May 2021.
Comments on EA | June 2021.

Final amendments to the application must be filed with the Commission no later than 30 days from the issuance date of the notice of ready for environmental analysis.

Dated: March 6, 2020.
Kimberly D. Bose,
Secretary.

[FR Doc. 2020-05067 Filed 3-11-20; 8:45 am]

BILLING CODE 6717-01-P